POSTAL REGULATORY COMMISSION

[Docket No. CP2022-66; Order No. 6184]

Inbound Parcel Post (at UPU Rates)

AGENCY: Postal Regulatory Commission.

ACTION: Notice.

SUMMARY: The Commission is recognizing a recent Postal Service filing of a change in rates not of general applicability to be effective July 1, 2022. This document informs the public of the filing, invites public comment, and takes other administrative steps.

DATES: Comments are due: June 2, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On May 23, 2022, the Postal Service filed notice announcing its intention to change prices not of general applicability for Inbound Parcel Post (at Universal Postal Union (UPU) Rates) effective July 1, 2022.¹

¹ Notice of the United States Postal Service of Filing Changes in Rates Not of General Applicability for Inbound Parcel Post (at UPU Rates), and Application for Non-Public Treatment, May 23, 2022, at 1 (Notice).

II. Contents of Filing

With the Notice, the Postal Service filed: A redacted copy of the UPU International Bureau (IB) Circular 49 that contains the new provisional prices,² a copy of the certification required under 39 CFR 3035.105(c)(2), redacted Postal Service data used to justify any bonus payments, a redacted copy of Governors' Decision No. 19-1, and a redacted copy of UPU IB Circular 92, which contains information for a prior period to support the Postal Service's contentions about cost coverage. Notice at 2-3; see id. Attachments 2-6. The Postal Service also filed redacted Excel versions of financial workpapers. Notice at 3.

² The Postal Service explains that the prices are provisional because it expects the Postal Operations Council (POC) to issue revised rates in a re-issued circular during June of 2022. Notice at 3-4. The Postal Service does not anticipate the revised rates to differ from the rates submitted with the Notice. Id. at 4.

Additionally, the Postal Service filed an unredacted copy of Governors' Decision No. 19-1, an unredacted copy of the new prices, and related financial information under seal. See id. at 2. The Postal Service also filed an application for non-public treatment of materials filed under seal. Notice, Attachment 1.

The Postal Service states that it has provided supporting documentation as required by Order No. 2102 and Order No. 2310.³ In addition, the Postal Service states that it provided citations and copies of relevant UPU IB Circulars and updates to inflation-linked adjustments. Notice at 7.

³ Notice at 4-5. See Docket No. CP2014-52, Order Accepting Price Changes for Inbound Air Parcel Post (at UPU Rates), June 26, 2014, at 6 (Order No. 2102); Docket No. CP2015-24, Order Accepting Changes in Rates for Inbound Parcel Post (at UPU Rates), December 29, 2014, at 4 (Order No. 2310).

III. Commission Action

The Commission establishes Docket No. CP2022-66 for consideration of matters raised by the Notice.

The Commission invites comments on whether the Postal Service's filing is consistent with 39 U.S.C. 3632-3633, and 39 CFR part 3035. Comments are due no later than June 2, 2022. The public portions of the filing can be accessed via the Commission's website (http://www.prc.gov).

The Commission appoints Kenneth R. Moeller to serve as Public Representative in this docket.

IV. Ordering Paragraphs

It is ordered:

1. The Commission establishes Docket No. CP2022-66 for consideration of the matters raised by the Postal Service's Notice.

2. Pursuant to 39 U.S.C. 505, Kenneth R. Moeller is appointed to serve as an officer of the Commission to represent the interests of the general public in this proceeding (Public Representative).

3. Comments are due no later than June 2, 2022.

4. The Secretary shall arrange for publication of this order in the Federal Register.

By the Commission.
Erica A. Barker,
Secretary.

[FR Doc. 2022-11708 Filed 5-31-22; 8:45 am]

BILLING CODE 7710-FW-P